DEPARTMENT OF THE INTERIOR

Bureau of Ocean Energy Management

[Docket No. BOEM-2015-0068]

Outer Continental Shelf, Alaska Region, Beaufort Sea Planning Area, Liberty Development and Production Plan, Draft Environmental Impact Statement, Re-Opening of Public Comment Period; MMAA10400

AGENCY: Bureau of Ocean Energy Management, Interior.

ACTION: Re-opening of public comment period, Liberty Development and Production Plan Draft Environmental Impact Statement.

SUMMARY: The Bureau of Ocean Energy Management (BOEM) is re-opening the public comment period for the Draft Environmental Impact Statement (EIS) relating to the Liberty Development and Production Plan (DPP) in the Beaufort Sea Planning Area. This Draft EIS was issued on August 17, 2017. The original comment period was scheduled to last from August 17 to November 18, 2017, and included public hearings in Fairbanks, Nuiqsut, Utqiaġvik, and Anchorage in early October. This Federal Register Notice (Notice) re-opens the comment period, to extend from the date of this Notice to December 8, 2017. Comments received between November 18 and the date of this Notice will still be accepted and considered by BOEM. After BOEM reviews comments on the Draft EIS, BOEM will prepare a Final EIS.

DATES: Comments must be received by 11:59 p.m. Eastern Time on December 8, 2017.

FOR FURTHER INFORMATION CONTACT: For information on the Liberty DPP EIS or BOEM's policies associated with this notice, please contact Lauren Boldrick, Project Manager, BOEM, Alaska OCS Region, 3801 Centerpoint Drive, Suite 500, Anchorage, AK 99503, telephone (907) 334-5227.

SUPPLEMENTARY INFORMATION: Federal, state, tribal, and local governments and/or agencies and other interested parties may submit written comments through the Federal eRulemaking Portal: http://www.regulations.gov. In the field titled “Enter Keyword or ID,” enter [Docket No. BOEM-2015-0068], and then click “search.” Follow the instructions to submit public comments and view supporting and related materials available for this notice.

Before including your address, phone number, email address or other personal identifying information in your comment, you should be aware that your entire comment, including your personal identifying information, may be made publicly available at any time. While you can ask us in your comments to withhold your personal identifying information from public review, we cannot guarantee that we will be able to do so.

Dated: November 20, 2017.
Walter D. Cruickshank,
Deputy Director, Bureau of Ocean Energy Management.

[FR Doc. 2017-25433 Filed 11-22-17; 8:45 am]

BILLING CODE 4310-MR-P